DEPARTMENT OF VETERANS AFFAIRS

[OMB Control No. 2900-NEW]

Board of Veterans Appeals, Veterans Information Office, Voice of the Veteran Call Center Survey; Correction

AGENCY: Board of Veterans Appeals, Department of Veterans Affairs.

ACTION: Notice; correction.

SUMMARY: The Department of Veterans Affairs (VA) published an information collection notice in a Federal Register on September 6, 2013 (78 FR 54957), that contained errors. VA announced that the Board of Veterans' Affairs was announcing an opportunity for public comment on the proposed collection. The department name should read “Board of Veterans' Appeals (BVA)” throughout the entire notice. The Proposed Information Collection title throughout the notice should read “Board of Veterans' Appeals, Veterans Information Office, Voice of the Veterans Call Center Survey”. We have corrected the office telephone number of the contact person. Lastly, we have corrected the frequency of response that was listed as quarterly to annually. Those errors are corrected by this notice.

FOR FURTHER INFORMATION CONTACT: Crystal Rennie, Enterprise Records Service (005R1B), Department of Veterans Affairs, 810 Vermont Avenue NW., Washington, DC 20420, at (202) 632-7492.

Correction

In FR Doc. 2013-21692, published on September 6, 2013, at 78 FR 54957, make the following corrections.

On page 54957 in the second column, at the Proposed Information Collection section, correct the title of the collection to read “Board of Veterans' Appeals', Veterans Information Office, Voice of the Veterans Call Center Survey”. At the AGENCY heading, second column, remove the first instance of the word “Affairs”, and add, in its place, “Appeals”. In the SUMMARY, second column, remove the first instance of the word “Affairs”, and add, in its place, “Appeals”.

In the FOR FURTHER INFORMATION CONTACT section, third column, remove the duplicative prefix of the telephone number. It should read “(202) 632-5100”. In the “TITLE”, third column, correct the title of the collection to read “Board of Veterans' Appeals', Veterans Information Office, Voice of the Veterans Call Center Survey”. In the “TITLE”, third column, correct the title of the collection to read “Board of Veterans' Appeals', Veterans Information Office, Voice of the Veterans Call Center Survey”. In the “FREQUENCY OF RESPONSE” section, third column, remove “quarterly” and add, in its place, “annually”.

Dated: September 20, 2013.
Crystal Rennie,
VA Clearance Officer, U.S. Department of Veterans Affairs.

[FR Doc. 2013-23365 Filed 9-25-13; 8:45 am]

BILLING CODE 8320-01-P